SOCIAL SECURITY ADMINISTRATION

Agency Information Collection Activities: Proposed Request and Comment Request

The Social Security Administration (SSA) publishes a list of information collection packages requiring clearance by the Office of Management and Budget (OMB) in compliance with Public Law (Pub. L.) 104-13, the Paperwork Reduction Act of 1995, effective October 1, 1995. This notice includes revisions to and extensions of OMB-approved information collections.

SSA is soliciting comments on the accuracy of the agency's burden estimate; the need for the information; its practical utility; ways to enhance its quality, utility, and clarity; and ways to minimize the burden on respondents, including the use of automated collection techniques or other forms of information technology. Mail, email, or fax your comments and recommendations on the information collection(s) to the OMB Desk Officer and the SSA Director for Reports Clearance to the addresses or fax numbers shown below.

(OMB), Office of Management and Budget, Attn: Desk Officer for SSA, Fax: 202-395-6974, E-mail address: OIRA_Submion@omb.eop.gov.

(SSA), Social Security Administration, DCBFM, Attn: Director, Center for Reports Clearance, 1333 Annex Building, 6401 Security Blvd., Baltimore, MD 21235, Fax: 410-965-0454, E-mail address: OPLM.RCO@ssa.gov.

I. The information collection below is pending at SSA. SSA will submit it to OMB within 60 days from the date of this notice. To be sure we consider your comments, we must receive them no later than February 8, 2010. Individuals can obtain copies of the collection instrument by calling the SSA Director for Reports Clearance at 410-965-0454 or by writing to the above e-mail address.

1. Farm Self-Employment Questionnaire—20 CFR 404.1082(c) & 404.1095—0960-0061. Section 211(a) of the Social Security Act requires the existence of a trade or business as a prerequisite for determining whether an individual or partnership may have net earnings from self-employment. During a personal interview, the requesting Social Security field office uses Form SSA-7165 to elicit the information necessary to determine the existence of an agricultural trade or business and subsequent covered earnings for Social Security entitlement purposes. The respondents are applicants for Social Security benefits, whose entitlement depends on whether the worker has covered earnings from self-employment as a farmer.

Type of Request: Extension of an OMB-approved information collection.

Number of Respondents: 47,500.

Frequency of Response: 1.

Average Burden Per Response: 10 minutes.

Estimated Annual Burden: 7,917 hours.

2. Site Review Questionnaire for Volume and Fee-for-Service Payees and Beneficiary Interview Form—20 CFR 404.2035, 404.2065, 416.665, 416.701, and 416.708—0960-0633. SSA uses the SSA-637, Site Review Questionnaire for Volume and Fee-for-Service Payees, to obtain information from the payee about how the organization operates and carries out its representative payee responsibilities, including how it manages beneficiary funds. We then use the SSA-639, Beneficiary Interview Form, to obtain information from the beneficiaries to help corroborate the payee's statements. Due to the sensitivity of the information, SSA employees always complete the forms based on the answers respondents give during the interview. The respondents are individuals, State and local governments, non-profit and for-profit organizations that serve as representative payees and the beneficiaries they serve.

Type of Request: Extension of an OMB-approved information collection.

Form number | Number of respondents | Frequency of response | Average burden per response (minutes) | Total annual burden (hours)
SSA-637 | 2,001 | 1 | 2 hours | 4,002
SSA-639 | 9,341 | 1 | 10 minutes | 1,557
Totals | 11,342 |  |  | 5,559

3. Certification of Prisoner Identity Information—20 CFR 422.107—0960-0688. This regulation stipulates when a valid agreement is in place, prison officials verify the identity of certain incarcerated U.S. citizens who need replacement Social Security cards. Information the prison officials provide will come from the official prison files, sent on prison letterhead. SSA uses this information to establish the applicant's identity in the replacement Social Security card process. The respondents are prison officials who certify the identity of prisoners applying for replacement Social Security cards.

Type of Request: Extension of an OMB-approved information collection.

Number of Respondents: 1,000.

Frequency of Response: 200.

Average Burden Per Response: 3 minutes.

Estimated Annual Burden: 10,000 hours.

II. SSA has submitted the information collections listed below to OMB for clearance. Your comments on the information collections would be most useful if OMB and SSA receive them within 30 days from the date of this publication. To be sure we consider your comments, we must receive them no later than January 7, 2010. You can obtain a copy of the OMB clearance packages by calling the SSA Director for Reports Clearance at 410-965-0454 or by writing to the above e-mail address.

1. Application for Widow's or Widower's Insurance Benefits—20 CFR 404.335-404.338, 404.603—0960-0004. SSA uses the information it collects on the SSA-10-BK to determine whether the applicant meets the statutory and regulatory conditions for entitlement to widow's or widower's Social Security Title II benefits. The respondents are applicants for widow's or widower's insurance benefits.

Type of Request: Revision of an OMB-approved information collection.

Number of Respondents: 341,560.

Collection method | Number of respondents | Estimated completion time | Burden hours
MCS | 162,241 | 15 minutes | 40,560
MCS/Signature Proxy | 162,241 | 14 minutes | 37,856
Paper | 17,078 | 15 minutes | 4,270
Totals: | 341,560 |  | 82,686

Estimated Annual Burden: 82,686 hours.

2. Employment Relationship Questionnaire—20 CFR 404.1007—0960-0040. SSA obtains information on Form SSA-7160-F4 to determine a worker's employment status; i.e., whether, under the definition of an employee found in Section 210(j)(2) of the Act and 20 CFR 404.1007 of the Code of Federal Regulations, a worker is an employee under the “usual common law rules” applicable in determining the existence of an employer-employee relationship. We use the information to develop the employment relationship and to determine whether a beneficiary is self-employed or an employee. The respondents are individuals questioning their status as employees and their alleged employers.

Type of Request: Extension of an OMB-approved information collection.

Respondent type | Number of respondents | Frequency of response | Average burden per response (minutes) | Estimated annual burden (hours)
Individuals | 8,000 | 1 | 25 | 3,333
Businesses | 7,200 | 1 | 25 | 3,000
State/Local Government | 800 | 1 | 25 | 333
Totals: | 16,000 |  |  | 6,666

3. Substitution of Party upon Death of Claimant—20 CFR 404.957(c)(4) and 416.1457(c)(4)—0960-0288. SSA collects information on Form HA-539 when a claimant for Social Security or Supplemental Security Income (SSI) payments dies while his or her request for a hearing is pending. The information SSA collects establishes a written record of the request of any individual who asks to be made a substitute party for a deceased claimant. It also facilitates a decision by SSA on who, if anyone, should become a substitute party for the deceased. The Administrative Law Judge and the hearing office support staff use this information to: (1) Establish the relationship of the requester to the deceased claimant; (2) determine the substituted individual's wishes regarding an oral hearing or decision on the record; and (3) admit the data into the claimant's official record as an exhibit. The respondents are individuals requesting to be made a substitute party for a deceased claimant.

Type of Request: Revision of an OMB-approved information collection.

Number of Respondents: 4,000.

Frequency of Response: 1.

Average Burden per Response: 5 minutes.

Estimated Annual Burden: 333 hours.

4. Response to Notice of Revised Determination—20 CFR 404.913-.914, 404.992(b), 416.1413-.1414 and 416.1492(d)—0960-0347. When SSA determines that: (1) A claimant for initial disability benefits does not actually have a disability; or (2) the current recipient's disability ceased, the agency must notify the disability claimants/recipients of this decision. In response to this notice, the affected claimant and disability recipient has the following recourse: (1) May request a disability hearing to contest SSA's decision; and (2) may submit additional information or evidence for SSA to consider. Disability claimants, recipients, and their representatives use form SSA-765 to accomplish these two actions. The respondents are disability claimants, current disability recipients, or their representatives.

Type of Request: Extension of an OMB-approved information collection.

Number of Respondents: 1,925.

Frequency of Response: 1.

Average Burden per Response: 30 minutes.

Estimated Annual Burden: 963 hours.

5. Statement of Household Expenses and Contributions—20 CFR 416.1130-416.1148—0960-0456. SSA uses the information from Form SSA-8011-F3, to determine whether the claimant or recipient receives in-kind support and maintenance. This is necessary to determine the claimant's or recipient's eligibility for SSI and the payment amount. SSA does not use this form for all claims and post eligibility determinations. SSA uses this form only in cases where SSA needs the householder's (head of household) corroboration of in-kind support and maintenance. Respondents are householders where an SSI applicant or recipient resides.

Note: This is a correction notice. SSA published this information collection as an extension on October 06, 2009 at 74 FR 51353. Since we are revising the Privacy Act Statement, this is now a revision of an OMB-approved information collection.

Type of Request: Revision of an OMB-approved information collection.

Number of Respondents: 400,000.

Frequency of Response: 1.

Average Burden per Response: 15 minutes.

Estimated Annual Burden: 100,000 hours.

6. Privacy and Disclosure of Official Records and Information; Availability of Information and Records to the Public—20 CFR 401.40(b)&(c), 401.55(b), 401.100(a), 402.130, 402.185—0960-0566. Under the Privacy and Disclosure of Official Records and Information, SSA established methods for the public to: access their SSA records; disclose SSA records to others; correct/amend their SSA records; consent to release their records; request records under the Freedom of Information Act (FOIA); and request waiver/reduction of fees normally charged for release of FOIA records. SSA most often collects the required information for these requests through a written letter, with the exception of the consent for release of records for which there is Form SSA-3288. Respondents are individuals requesting access to, correction of, or disclosure of SSA records.

Type of Request: Revision of an OMB-approved information collection.

Type of request | Number of respondents | Frequency of response | Average burden per response (minutes) | Estimated annual burden (hours)
Access to Records | 10,000 | 1 | 11 | 1,833
Designating a Representative for Disclosure of Records | 3,000 | 1 | 2 | 6,000
Amendment of Records | 100 | 1 | 10 | 17
Consent for Release of Records | 3,000,000 | 1 | 3 | 150,000
FOIA Requests for Records | 15,000 | 1 | 5 | 1,250
Waiver/Reduction of Fees | 400 | 1 | 5 | 33
Totals | 3,028,500 |  |  | 159,133

7. Request for Reinstatement (Title II)—20 CFR 404.1592b—404.1592f—0960-0742. Through Form SSA-371, SSA obtains a signed statement from individuals stating a request for Expedited Reinstatement (EXR) of their Title II disability benefits and proof the requestor meets the EXR requirements. SSA maintains the form in the disability folder of the applicant to demonstrate the individual's awareness of the EXR requirements and his or her choice to request EXR. Respondents are individuals requesting expedited reinstatement of their Title II disability benefits.

Note: This is a correction notice. SSA published this information collection as an extension on October 06, 2009 at 74 FR 51353. Since we are revising the Privacy Act Statement, this is now a revision of an OMB-approved information collection.

Type of Request: Revision of an OMB-approved information collection.

Number of Respondents: 10,000.

Frequency of Response: 1.

Average Burden per Response: 2 minutes.

Estimated Annual Burden: 333 hours.

8. Request for Reinstatement (Title XVI)—20 CFR 416.999—416.999d—0960-0744. Through the SSA-372, SSA obtains a signed statement from individuals stating a request for EXR of their Title XVI SSI payments and proof the requestor meets the EXR requirements. SSA maintains the form in the disability folder of the applicant to demonstrate the individual's awareness of the EXR requirements and his or her choice to request EXR. Respondents are individuals requesting expedited reinstatement of their Title XVI SSI payments.

Type of Request: Revision of an OMB-approved information collection.

Number of Respondents: 2,000.

Frequency of Response: 1.

Average Burden per Response: 2 minutes.

Estimated Annual Burden: 67 hours.

Dated: December 2, 2009.
Elizabeth A. Davidson,
Director, Center for Reports Clearance, Social Security Administration.

[FR Doc. E9-29119 Filed 12-7-09; 8:45 am]

BILLING CODE 4191-02-P